DEPARTMENT OF HOMELAND SECURITY

U.S. Customs and Border Protection

19 CFR Part 122

[CBP Dec. 25-15]

RIN 1651-AB67

Technical Amendment to List of User Fee Airports: Addition of Five Airports, Removal of One Airport

AGENCY: U.S. Customs and Border Protection (CBP), Department of Homeland Security.

ACTION: Final rule; technical amendment.

SUMMARY: This document amends CBP regulations by revising the list of user fee airports. This technical amendment reflects the designation of user fee status for five additional airports: City of Colorado Springs Municipal Airport in Colorado Springs, Colorado; Santa Maria Public Airport District in Santa Maria, California; Tallahassee International Airport in Tallahassee, Florida; Vero Beach Regional Airport in Vero Beach, Florida; and Hillsboro Airport in Hillsboro, Oregon. This document also amends CBP regulations by removing Ontario International Airport in Ontario, California from the list of user fee airports.

DATES: Effective date: November 17, 2025.

FOR FURTHER INFORMATION CONTACT: Ryan Flanagan, Director, Alternative Funding Program, Office of Field Operations, U.S. Customs and Border Protection, at Ryan.H.Flanagan@cbp.dhs.gov or 202-550-9566.

SUPPLEMENTARY INFORMATION:

Background

Title 19, part 122, of the Code of Federal Regulations (19 CFR part 122) sets forth regulations relating to the entry and clearance of aircraft ¹ engaged in international commerce and the transportation of persons and cargo by aircraft in international commerce.² Generally, a civil aircraft arriving from outside the United States must land at an airport designated as an international airport. Alternatively, civil aircraft may request permission to land at a specific airport and, if landing rights are granted, the civil aircraft may land at that landing rights airport.³

¹ For purposes of this technical rule, an “aircraft” is defined as any device now known, or hereafter invented, used or designed for navigation or flight in the air and does not include hovercraft. 19 CFR 122.1(a).

² Part 122 of CFR title 19 is issued in relevant part pursuant to the authority of the Secretary of Homeland Security under 19 U.S.C. 1644 and 1644a.

³ A landing rights airport is “any airport, other than an international airport or user fee airport, at which flights from a foreign area are given permission by Customs to land.” 19 CFR 122.1(f).

Section 236 of the Trade and Tariff Act of 1984 (Pub. L. 98-573, 98 Stat. 2948, 2994 (1984)), codified at 19 U.S.C. 58b, created an alternative option for civil aircraft seeking to land at an airport that is neither an international airport nor a landing rights airport. This alternative option allows the Commissioner of CBP to designate an airport, upon request by the airport authority or other sponsoring entity, as a user fee airport.⁴ Pursuant to 19 U.S.C. 58b, a requesting airport may be designated as a user fee airport only if CBP determines that the volume or value of business at the airport is insufficient to justify the unreimbursed availability of customs services at the airport and the governor of the state in which the airport is located approves the designation. Because the volume or value of business cleared through this type of airport is insufficient to justify the availability of customs services at no cost, customs services provided by CBP at the airport are not funded by appropriations from the general treasury of the United States. Instead, the user fee airport pays for the customs services provided by CBP. The user fee airport must pay the fees charged, which must be in an amount equal to the expenses incurred by CBP in providing customs and related services at the user fee airport, including the salary and expenses of CBP employees to provide such services. See 19 U.S.C. 58b; see also 19 CFR 24.17(a)-(b).

⁴ Sections 403(1) and 411 of the Homeland Security Act of 2002 (Pub. L. 107-296, 116 Stat. 2135, 2178-79 (2002)), codified at 6 U.S.C. 203(1) and 211, transferred certain functions, including the authority to designate user fee facilities (UFF), from the U.S. Customs Service of the Department of the Treasury to the U.S. Department of Homeland Security. The Secretary of Homeland Security delegated the authority to designate user fee facilities to the Commissioner of CBP. See DHS, Delegation No. 07010.3, Delegation of Authority to the Commissioner of U.S. Customs and Border Protection II.A (Rev. No. 03.2, Incorporating Change 2, Dec. 11, 2024). The Commissioner subsequently delegated the authority to designate new UFFs to the Executive Assistant Commissioner (EAC) of the Office of Field Operations on March 23, 2020. On December 23, 2020, the broader authority to withdraw a facility's designation as a UFF, as well as execute, amend, or terminate Memorandums of Agreement, was also delegated to the EAC of the Office of Field Operations.

CBP designates airports as user fee airports in accordance with 19 U.S.C. 58b and 19 CFR 122.15 on a case-by-case basis. If CBP decides that the conditions for designation as a user fee airport are satisfied, a Memorandum of Agreement (MOA) is executed between the Commissioner of CBP (or the Commissioner's delegate, see footnote 4, above) and the sponsor (the airport authority or other sponsoring entity requesting the designation) of the user fee airport. Pursuant to 19 CFR 122.15(c), the designation of an airport as a user fee airport must be withdrawn if either CBP or the airport authority gives 120 days written notice of termination to the other party or if any amounts due to CBP are not paid on a timely basis.

The list of designated user fee airports is set forth in 19 CFR 122.15(b). Periodically, CBP updates the list to include newly designated airports that were not previously on the list, to reflect any changes in the names of the designated user fee airports, and to remove airports that are no longer designated as user fee airports.

Recent Changes Requiring Updates to the List of User Fee Airports

This document updates the list of user fee airports in 19 CFR 122.15(b) by adding the following five airports: City of Colorado Springs Municipal Airport in Colorado Springs, Colorado; Santa Maria Public Airport District in Santa Maria, California; Tallahassee International Airport in Tallahassee, Florida; Vero Beach Regional Airport in Vero Beach, Florida; and Hillsboro Airport in Hillsboro, Oregon. CBP has signed MOAs with the respective airport authorities designating each of these five airports as a user fee airport.⁵

⁵ The Acting Executive Assistant Commissioner of the Office of Field Operations signed MOAs designating the Santa Maria Public Airport District on July 5, 2024; the City of Colorado Springs Municipal Airport on November 1, 2024; the Tallahassee International Airport on November 1, 2024; the Vero Beach Regional Airport on December 5, 2024; and the Hillsboro Airport on July 24, 2025.

Additionally, this document updates the list of user fee airports in 19 CFR 122.15(b) by removing one airport: Ontario International Airport in Ontario, California. The airport authority of Ontario International Airport requested to terminate its user fee status on November 17, 2023, and the airport authority and CBP mutually agreed to terminate the user fee status of Ontario International Airport effective October 1, 2024.

Inapplicability of Public Notice and Delayed Effective Date Requirements

Under the Administrative Procedure Act (5 U.S.C. 553(b)(B)), an agency is exempted from the prior public notice and comment procedures if it finds, for good cause, that such procedures are impracticable, unnecessary, or contrary to the public interest. This final rule makes conforming changes by updating the list of user fee airports to add five airports that have already been designated by CBP as user fee airports and by removing one airport for which CBP has withdrawn the user fee airport designation, in accordance with 19 U.S.C. 58b. Because this conforming rule has no substantive impact, is technical in nature, and does not impose additional burdens on or take away any existing rights or privileges from the public, CBP finds for good cause that the prior public notice and comment procedures are impracticable, unnecessary, and contrary to the public interest. For the same reasons, pursuant to 5 U.S.C. 553(d)(3), a delayed effective date is not required.

Regulatory Flexibility Act and Executive Orders 12866 and 14192

Executive Orders 12866 (Regulatory Planning and Review) and 13563 (Improving Regulation and Regulatory Review) direct agencies to assess the costs and benefits of available regulatory alternatives and, if regulation is necessary, to select regulatory approaches that maximize net benefits. Executive Order 13563 emphasizes the importance of quantifying both costs and benefits, of reducing costs, of harmonizing rules, and of promoting flexibility. Executive Order 14192 (Unleashing Prosperity Through Deregulation) directs agencies to significantly reduce the private expenditures required to comply with Federal regulations and provides that “any new incremental costs associated with new regulations shall, to the extent permitted by law, be offset by the elimination of existing costs associated with at least 10 prior regulations.”

The Office of Management and Budget (OMB) has not designated this rule a “significant regulatory action,” under section 3(f) of Executive Order 12866. Accordingly, OMB has not reviewed it.

This rule is an Executive Order 14192 deregulatory action because it provides clarification within the regulations, without increasing costs to the public.

Because no notice of proposed rulemaking is required, the provisions of the Regulatory Flexibility Act (5 U.S.C. 601 et seq.) do not apply. 5 U.S.C. 603(a).

Paperwork Reduction Act

There is no new collection of information required in this document; therefore, the provisions of the Paperwork Reduction Act of 1995 (44 U.S.C. 3507) are inapplicable.

Signing Authority

This document is limited to a technical correction of CBP regulations. Accordingly, it is signed under the authority of 19 CFR 0.1(b). Rodney S. Scott, Commissioner, having reviewed and approved this document, has delegated the authority to electronically sign this document to the Director (or Acting Director, if applicable) of the Regulations and Disclosure Law Division for CBP, for purposes of publication in the Federal Register.

List of Subjects in 19 CFR Part 122

Air carriers, Aircraft, Airports, Customs duties and inspection, Freight.

Amendments to Regulations

For the reasons stated in the preamble, CBP amends 19 CFR part 122 as set forth below:

PART 122—AIR COMMERCE REGULATIONS

1. The general authority citation for part 122 continues to read as follows:

Authority: 5 U.S.C. 301; 19 U.S.C. 58b, 66, 1415, 1431, 1433, 1436, 1448, 1459, 1590, 1594, 1623, 1624, 1644, 1644a, 2071 note.

* * * * *

2. In § 122.15, amend the table in paragraph (b) as follows:

a. Add entries for “Colorado Springs, Colorado” and “Hillsboro, Oregon” in alphabetical order;

b. Remove the entry for “Ontario, California”; and

c. Add entries for “Santa Maria, California”, “Tallahassee, Florida”, and “Vero Beach, Florida” in alphabetical order.

The additions read as follows:

§ 122.15 User fee airports.

* * * * *

(b) * * *

Location | Name
* * * * * * *
Colorado Springs, Colorado | City of Colorado Springs Municipal Airport.
* * * * * * *
Hillsboro, Oregon | Hillsboro Airport.
* * * * * * *
Santa Maria, California | Santa Maria Public Airport District.
* * * * * * *
Tallahassee, Florida | Tallahassee International Airport.
* * * * * * *
Vero Beach, Florida | Vero Beach Regional Airport.
* * * * * * *

* * * * *

Dated: November 13, 2025.
Robert F. Altneu,
Director, Regulations & Disclosure Law Division, Regulations & Rulings, Office of Trade, U.S. Customs and Border Protection.

[FR Doc. 2025-20007 Filed 11-14-25; 8:45 am]

BILLING CODE 9111-14-P